FEDERAL COMMUNICATIONS COMMISSION

47 CFR Parts 5 and 15

[ET Docket No. 18-21; FCC 19-19; FRS 16997]

Spectrum Horizons

AGENCY: Federal Communications Commission.

ACTION: Final rule; announcement of effective date.

SUMMARY: In this document, the Commission announces that the Office of Management and Budget (OMB) has approved, for a period of three years, the information collection requirements associated with the Commission's Spectrum Horizons, Order (Order)'s Experimental Radio Service rules. This document is consistent with the Order, which stated that the Commission would publish a document in the Federal Register announcing the effective date of those rules.

DATES: The amendments to §§ 5.59, 5.77, 5.121, 5.702, 5.703, 5.704, 5.705, and 15.258 published at 84 FR 25685, June 4, 2019, are effective August 24, 2020.

FOR FURTHER INFORMATION CONTACT: Martin Doczkat, Office of Engineering and Technology Bureau, at (202) 418-2435, or email: Martin.Doczkat@fcc.gov.

SUPPLEMENTARY INFORMATION: This document announces that, on July 24, 2020 OMB approved, for a period of three years, the information collection requirements relating to the Experimental Radio Service rules contained in the Commission's Order, FCC 19-19, published at 84 FR 25685, June 4, 2019. The OMB Control Numbers are 3060-0065 and 3060-0057. The Commission publishes this document as an announcement of the effective date of the rules. If you have any comments on the burden estimates listed below, or how the Commission can improve the collections and reduce any burdens caused thereby, please contact Nicole Ongele, Federal Communications Commission, Room 1-A620, 445 12th Street SW, Washington, DC 20554. Please include the OMB Control Numbers, 3060-0065 and 3060-0057, in your correspondence. The Commission will also accept your comments via email at PRA@fcc.gov. To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received final OMB approval on July 24, 2020, for the information collection requirements contained in the modifications to the Commission's rules in 47 CFR parts 5 and 15. Under 5 CFR part 1320, an agency may not conduct or sponsor a collection of information unless it displays a current, valid OMB Control Number.

No person shall be subject to any penalty for failing to comply with a collection of information subject to the Paperwork Reduction Act that does not display a current, valid OMB Control Number. The OMB Control Numbers are 3060-0065 and 3060-0057. The foregoing notice is required by the Paperwork Reduction Act of 1995, Public Law 104-13, October 1, 1995, and 44 U.S.C. 3507.

The total annual reporting burdens and costs for the respondents are as follows:

OMB Control Number: 3060-0065.

OMB Approval Date: July 24, 2020.

OMB Expiration Date: July 31, 2023.

Title: Applications for New Authorization or Modification of Existing Authorization Under Part 5 of the FCC Rules-Experimental Radio Service.

Form Number: FCC Form 442.

Respondents: Business or other for-profit; Not-for-profit institutions, Individuals or households, State, Local or Tribal Government.

Number of Respondents and Responses: 405 respondents; 655 responses.

Estimated Time per Response: 15-663 hours.

Frequency of Response: On occasion reporting requirements; Recordkeeping requirements and Third party disclosure requirement.

Obligation to Respond: Required to obtain or retain benefits. Statutory authority for this collection of information is contained in 47 U.S.C. 4, 302, 303, 307 and 336 of the Communications Act of 1934, as amended.

Total Annual Burden: 3,474 hours.

Total Annual Cost: $52,150.

Nature and Extent of Confidentiality: Applicants may request that any information supplied be withheld from public inspection, e.g., granted confidentiality, pursuant to 47 CFR Section 0.459 of the Commission's rules.

Privacy Act: Yes. This information collection affects individuals or households. The Commission has a System of Records, FCC/OET-1 “Experimental Radio Station License Files” which covers the personally identifiable information (PII) that individual applicants may include in their submissions for experimental radio authorizations. The system of records notice (SORN) was published in the Federal Register on June 11, 2019, see 84 FR 27115. The SORN may be viewed at https://www.fcc.gov/general/privacy-act-information.

Needs and Uses: On March 15, 2019, the Commission adopted a First Report and Order, in ET Docket No. 18-21; FCC 19-19, which updates a section of Part 5 of the CFR—Experimental Radio Service (ERS). The Commission's recent R&O adopts a new subpart to the existing part 5 rules for a new and unique license type—the Spectrum Horizons Experimental Radio license (or “Spectrum Horizons License”). Specifically, the Spectrum Horizons License will be available for experiments and demonstrations of equipment designed to operate exclusively on any frequency above 95 GHz.

OMB Control Number: 3060-0057.

OMB Approval Date: July 24, 2020.

OMB Expiration Date: July 31, 2023.

Title: Application for Equipment Authorization.

Form Number: FCC Form 731.

Respondents: Business or other for-profit.

Number of Respondents and Responses: 11,305 respondents; 24,873 responses.

Estimated Time per Response: 8.11 hours (rounded).

Frequency of Response: On occasion reporting requirement and third-party disclosure requirement.

Obligation to Respond: Required to obtain or retain benefits. Statutory authority for this collection of information is contained in 47 U.S.C. 154(i), 301, 302, 303(e), 303(f) and 303(r).

Total Annual Burden: 201,603 hours.

Total Annual Cost: $50,155,140.

Nature and Extent of Confidentiality: Minimal exemption from the Freedom of Information Act (FOIA) under 5 U.S.C. 552(b)(4) and FCC rules under 47 CFR 0.457(d) is granted for trade secrets which may be submitted as attachments to the application FCC Form 731. No other assurances of confidentiality are provided to respondents.

Privacy Act: Yes. The personally identifiable information (PII) in this information collection is covered by a Privacy Impact Assessment (PIA), Equipment Authorizations Records and Files Information System. It is posted at: https://www.fcc.gov/general/privacy-act-information#pia.

Needs and Uses: On March 15, 2019, the Commission adopted a First Report and Order, in ET Docket No. 18-2; FCC 19-19, which involves updates to 47 CFR part 15,—“Radio Frequency Devices,” to provide permit certain operations above 95 GHz.¹ Among other things, the Spectrum Horizons Order made specific frequencies above 95 GHz available for the operation of radiofrequency devices without a license. Such devices are subject to the certification process of the Commission's equipment authorization program.

¹ Spectrum Horizons, First Report and Order, 34 FCC Rcd 1605(2) (2019) (Spectrum Horizons Order).

Federal Communications Commission.
Marlene Dortch,
Secretary, Office of Secretary.

[FR Doc. 2020-17727 Filed 8-21-20; 8:45 am]

BILLING CODE 6712-01-P